DEPARTMENT OF THE INTERIOR

Minerals Management Service (MMS)

Outer Continental Shelf (OCS), Central Gulf of Mexico (GOM), Oil and Gas Lease Sale 182

AGENCY: Minerals Management Service, Interior.

ACTION: Availability of the proposed Notice of Sale.

SUMMARY: Gulf of Mexico OCS; Notice of Availability of the proposed Notice of Sale for proposed Oil and Gas Lease Sale 182 in the Central GOM. This Notice is published pursuant to 30 CFR 256.29(c) as a matter of information to the public.

With regard to oil and gas leasing on the OCS, the Secretary of the Interior, pursuant to section 19 of the OCS Lands Act, provides the affected States the opportunity to review the proposed Notice. The proposed Notice sets forth the proposed terms and conditions of the sale, including minimum bids, royalty rates, and rentals.

The proposed Notice of Sale for Sale 182 and a “Proposed Sale Notice Package” containing information essential to potential bidders may be obtained from the Public Information Unit, Gulf of Mexico Region, Minerals Management Service, 1201 Elmwood Park Boulevard, New Orleans, Louisiana 70123-2394. Telephone: (504) 736-2519.

The final Notice of Sale will be published in the Federal Register at least 30 days prior to the date of bid opening. Bid opening is currently scheduled for March 20, 2002.

Dated: November 9, 2001.
Thomas R. Kitsos,
Acting Director, Minerals Management Service.

[FR Doc. 01-28924 Filed 11-19-01; 8:45 am]

BILLING CODE 4310-MR-P